DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomics of Guided Whale-Watching Operations in the Stellwagon Bank National Marine Sanctuary.

OMB Control Number: 0648-xxxx.

Form Number(s): None.

Type of Request: Regular (request for a new information collection).

Number of Respondents: 30.

Average Hours per Response: One hour and 45 minutes.

Burden Hours: 53.

Needs and Uses: This request is for a new information collection to benefit natural resource managers in Stellwagen Bank National Marine Sanctuary (SBNMS).

The National Ocean Service (NOS) proposes to collect information from wildlife watching operations to ascertain the market value of marine wildlife via the ocean recreational industry in the Stellwagen Bank/Gulf of Maine region.

Up-to-date socioeconomic data is needed to support the conservation and management goals of SBNMS to strengthen and improve conservation of marine wildlife, including whales, pinnipeds, seals, and seabirds within the jurisdiction of the sanctuary and to satisfy legal mandates.

SBNMS is currently in the process of updating the 2010 Management Plan, and has identified a lack of baseline socioeconomic information on ocean recreation businesses. The type of data targeted for this collection has not been updated since 2008 and there are no source so information that detail operators' perceptions and attitudes towards the industry and sanctuary. Thus, current information on the importance of marine wildlife to the local tourism industry and operators is required. The primary focus for the survey will be to gather data on the non-consumptive, person-days of marine wildlife viewing and operators' perceptions and attitudes. Specifically, researchers will collect data to help determine the contribution of marine wildlife watching operations to the economy in the Stellwagen Bank region. The number of person-days of wildlife viewing is necessary to estimate the economic value that the industry makes to the region.

Affected Public: Business or other for-profit organizations.

Frequency: Once.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 30, 2018.
Sarah Brabson,
NOAA PRA Clearance Officer.

[FR Doc. 2018-02166 Filed 2-2-18; 8:45 am]

BILLING CODE 3510-NK-P